ENVIRONMENTAL PROTECTION AGENCY

[FRL-8778-3]

Meeting of the Local Government Advisory Committee

AGENCY: Environmental Protection Agency (EPA).

ACTION: Notice.

SUMMARY: The Local Government Advisory Committee (LGAC) and the Small Community Advisory Subcommittee (SCAS), and workgroups will meet on March 23-25, 2009, in Washington, DC. The Committee and Subcommittee meetings will be located at The Fairfax Hotel Embassy Row, 2100 Massachusetts Avenue, NW., Washington, DC 20008, in the Balcony conference room. The focus of the meeting will be: Economic Stimulus/water infrastructure and environmental provisions, climate change, energy efficiency, small communities, watersheds and coastlines, military issues, recycling DVD, product stewardship and green buildings.

This is an open meeting and all interested persons are invited to attend. The Committee will hear comments from the public between 12:05 p.m. and 12:30 p.m. on Tuesday, March 24, 2009. Individuals or organizations wishing to address the LGAC meeting will be allowed a maximum of five minutes to present their point of view. Also, written comments should be submitted electronically to Eargle.Frances@epa.gov. Please contact the Designated Federal Officer (DFO) at the number listed below to schedule agenda time. Time will be allotted on a first come first serve basis, and the total period for comments may be extended if the number of requests for appearances requires it.

ADDRESSES: The LGAC meeting will be held at the Fairfax Hotel Embassy Row, located at 2100 Massachusetts Avenue, NW., Washington, DC 20008 in the Balcony conference room on March 23-25, 2009.

The Committee's meeting minutes and Subcommittee summary notes will be available after the meeting online at http://www.epa.gov/ocir/scas and can be obtained by written request to the DFO.

FOR FURTHER INFORMATION CONTACT: Frances Eargle, DFO for the Local Government Advisory Committee (LGAC) at (202) 564-3115 or e-mail at Eargle.frances@epa.gov.

Information on Services for Those with Disabilities: For Information on access or services for individuals with disabilities, please contact Frances Eargle at (202) 564-3115 or eargle.frances@epa.gov. To request accommodation of a disability, please request it 10 days prior to the meeting, to give EPA as much time as possible to process your request.

Dated: February 19, 2009.
Frances Eargle,
Designated Federal Officer, Local Government Advisory Committee.

[FR Doc. E9-4479 Filed 3-2-09; 8:45 am]

BILLING CODE 6560-50-P